DEPARTMENT OF HOMELAND SECURITY

Coast Guard

33 CFR Part 117

[CGD01-04-091]

Drawbridge Operation Regulations: Raritan River, NJ

AGENCY: Coast Guard, DHS.

ACTION: Notice of temporary deviation from regulations.

SUMMARY: The Commander, First Coast Guard District, has issued a temporary deviation from the drawbridge operation regulations for the New Jersey Transit Rail Operations (NJTRO) Bridge, at mile 0.5, across the Raritan River, at Perth Amboy, New Jersey. Under this temporary deviation the bridge may remain in the closed position from 10 p.m. on July 30, 2004, through 10 a.m. on July 31, 2004, in order to perform scheduled bridge maintenance. An alternate date, in case of inclement weather, shall be from 10 p.m. on August 6, 2004, through 10 a.m. on August 7, 2004.

DATES: This deviation is effective from July 30, 2004, through August 7, 2004.

FOR FURTHER INFORMATION CONTACT: Joe Arca, Project Officer, First Coast Guard District, at (212) 668-7165.

SUPPLEMENTARY INFORMATION: The NJTRO Bridge has a vertical clearance in the closed position of 8 feet at mean high water and 13 feet at mean low water. The existing drawbridge operation regulations are listed at 33 CFR 117.747.

The bridge owner, New Jersey Transit Rail Operations (NJTRO), requested a temporary deviation from the drawbridge operation regulations to facilitate necessary scheduled bridge maintenance. The bridge must remain in the closed position during the performance of these repairs.

Therefore, under this temporary deviation the NJTRO Bridge may remain in the closed position from 10 p.m. on July 30, 2004, through 10 a.m. on July 31, 2004.

An alternate date, in case of inclement weather, shall be from 10 p.m. on August 6, 2004, through 10 a.m. on August 7, 2004.

This deviation from the operating regulations is authorized under 33 CFR 117.35, and will be performed with all due speed in order to return the bridge to normal operation as soon as possible.

Dated: July 14, 2004.
David P. Pekoske,
Rear Admiral, U.S. Coast Guard, Commander, First Coast Guard District.

[FR Doc. 04-16837 Filed 7-22-04; 8:45 am]

BILLING CODE 4910-15-P